DEPARTMENT OF LABOR

Employment and Training Administration

Notice on Reallotment of Workforce Innovation Opportunity Act (WIOA) Title I Formula Allotted Funds for Dislocated Worker Activities for Program Year (PY) 2020

AGENCY: Employment and Training Administration (ETA), Labor.

ACTION: Notice.

SUMMARY: The Workforce Innovation Opportunity Act (WIOA), requires the Secretary of Labor (Secretary) to conduct reallotment of certain WIOA formula allotted funds based on ETA 9130 financial reports submitted by states as of the end of the prior Program Year (PY). This notice publishes the Dislocated Worker PY 2020 funds for recapture by state and the amount to be reallotted to eligible states.

DATES: This notice is effective March 31, 2021.

FOR FURTHER INFORMATION CONTACT: Ms. Kimberly Vitelli, Administrator, U.S. Department of Labor, Office of Workforce Investment, Employment and Training Administration, Room C-4510, 200 Constitution Avenue NW, Washington, DC Telephone (202) 693-3980 (this is not a toll-free number) or fax (202) 693-3981.

SUPPLEMENTARY INFORMATION: In the Fiscal Year (FY) 2020 Appropriations Act, Congress appropriated WIOA PY 2020 funds in two portions: (1) Funds available for obligation July 1, 2020 (i.e., PY 2020 “base” funds), and (2) funds available for obligation October 1, 2020 (i.e., FY 2021 “advance” funds). Together, these two portions make up the complete PY 2020 WIOA funding. Training and Employment Guidance Letter (TEGL) No. 16-19 announced WIOA allotments based on this appropriation and TEGL No. 16-18 alerted states to the recapture and reallotment of funds' provisions based on obligations of PY 2019 funding, as required under WIOA Section 132(c). This section and 127(c) of WIOA requires the Secretary to conduct reallotment of excess unobligated WIOA Adult, Youth, and Dislocated Worker formula funds based on ETA 9130 financial reports submitted by states at the end of the prior program year (i.e., PY 2019).

WIOA regulations at 20 CFR 683.135 describe the procedures the Secretary uses for recapture and reallotment of funds. ETA will not recapture any PY 2020 funds for the Adult and Youth programs because there is no state where PY 2019 unobligated funds exceeds the statutory requirements of 20 percent of state allotted funds. However, for the Dislocated Worker program, Kentucky, Nevada, Puerto Rico, and West Virginia had unobligated PY 2019 funds in excess of 20 percent of their allotments. Therefore, ETA will recapture a total of $4,993,277 from PY 2020 funding from Kentucky, Nevada, Puerto Rico, and West Virginia, and reallot those funds to the remaining eligible states, as required by WIOA Section 132(c).

ETA will issue a Notice of Award to the states to reflect the recapture and reallotment of these funds. The adjustment of funds will be made to the FY 2021 advance portion of the PY 2020 allotments, which ETA issued in October 2020. The attached tables display the net changes to PY 2020 formula allotments.

WIOA and its implementing regulations do not provide specific requirements by which states must distribute realloted funds, so states have flexibility to determine the methodology used. For any state subject to recapture of funds, WIOA Section 132(c)(5) requires the Governor to prescribe equitable procedures for reacquiring funds from the state and local areas.

As mentioned, the recapture/reallotment adjustments will be made to the FY 2021 advance portion of the PY 2020 allotment. Therefore, for reporting purposes, states must reflect the recapture/reallotment amount (decrease or increase) in the “Total Federal Funds Authorized” line of any affected FY 2021 ETA 9130 financial reports (State Dislocated Worker Activities, Statewide Rapid Response, Local Dislocated Worker Activities) in a manner consistent with the method of distribution of these amounts to state and local areas used by the state. The state must include an explanation of the adjustment in the remarks section of the adjusted reports.

I. Attachment A

U.S. Department of Labor Employment and Training Administration WIOA Dislocated Worker Activities
PY 2020 Reallotment to States
| Calculating reallotment amount *: Excess unobligated PY 2019 funds to be recaptured from PY 2020 funds | Calculating reallotment amount *: Eligible states' PY 2019 1 dislocated worker allotments | Calculating reallotment amount *: Reallotment amount for eligible states (based on eligible states' share of PY 2019 allotments) | Impact on PY 2020 allotments: Total original PY 2020 allotments before reallotment | Impact on PY 2020 allotments: Recapture/ reallotment adjustment to PY 2020 allotments | Impact on PY 2020 allotments: Revised total PY 2020 allotments
Alabama | $0 | $18,361,881 | $97,223 | $17,387,399 | $97,223 | $17,484,622
Alaska | 0 | 6,412,959 | 33,955 | 8,421,655 | 33,955 | 8,455,610
Arizona ** | 0 | 30,330,562 | 160,594 | 39,830,842 | 160,594 | 39,991,436
Arkansas | 0 | 6,238,880 | 33,034 | 6,061,513 | 33,034 | 6,094,547
California | 0 | 148,077,038 | 784,039 | 142,073,567 | 784,039 | 142,857,606
Colorado | 0 | 10,076,913 | 53,355 | 9,986,612 | 53,355 | 10,039,967
Connecticut | 0 | 14,209,646 | 75,237 | 13,611,948 | 75,237 | 13,687,185
Delaware | 0 | 2,410,156 | 12,761 | 2,343,949 | 12,761 | 2,356,710
District of Columbia | 0 | 8,460,348 | 44,796 | 11,110,338 | 44,796 | 11,155,134
Florida | 0 | 52,296,583 | 276,900 | 50,853,493 | 276,900 | 51,130,393
Georgia | 0 | 38,622,811 | 204,500 | 36,871,224 | 204,500 | 37,075,724
Hawaii | 0 | 1,609,621 | 8,523 | 1,618,611 | 8,523 | 1,627,134
Idaho | 0 | 1,963,150 | 10,394 | 1,962,590 | 10,394 | 1,972,984
Illinois | 0 | 59,630,195 | 315,730 | 56,663,539 | 315,730 | 56,979,269
Indiana | 0 | 13,705,344 | 72,567 | 13,347,305 | 72,567 | 13,419,872
Iowa | 0 | 4,129,889 | 21,867 | 4,077,392 | 21,867 | 4,099,259
Kansas | 0 | 4,634,063 | 24,536 | 4,595,051 | 24,536 | 4,619,587
Kentucky | 2,697,332 | 0 | 0 | 16,051,059 | (2,697,332) | 13,353,727
Louisiana | 0 | 21,278,087 | 112,663 | 20,371,329 | 112,663 | 20,483,992
Maine | 0 | 2,607,188 | 13,805 | 2,562,857 | 13,805 | 2,576,662
Maryland | 0 | 15,311,178 | 81,070 | 15,019,525 | 81,070 | 15,100,595
Massachusetts | 0 | 15,818,320 | 83,755 | 15,428,753 | 83,755 | 15,512,508
Michigan | 0 | 28,980,249 | 153,445 | 28,103,101 | 153,445 | 28,256,546
Minnesota | 0 | 8,647,015 | 45,784 | 8,623,882 | 45,784 | 8,669,666
Mississippi | 0 | 12,860,111 | 68,092 | 16,877,853 | 68,092 | 16,945,945
Missouri | 0 | 13,772,288 | 72,922 | 13,271,254 | 72,922 | 13,344,176
Montana | 0 | 1,590,642 | 8,422 | 1,589,906 | 8,422 | 1,598,328
Nebraska | 0 | 2,412,598 | 12,774 | 2,430,569 | 12,774 | 2,443,343
Nevada | 466,433 | 0 | 0 | 13,341,178 | (466,433) | 12,874,745
New Hampshire | 0 | 1,781,465 | 9,433 | 1,776,875 | 9,433 | 1,786,308
New Jersey | 0 | 31,256,773 | 165,498 | 29,962,189 | 165,498 | 30,127,687
New Mexico ** | 0 | 17,835,113 | 94,433 | 18,082,636 | 94,433 | 18,177,069
New York | 0 | 50,974,953 | 269,902 | 50,005,712 | 269,902 | 50,275,614
North Carolina | 0 | 29,197,023 | 154,592 | 28,414,511 | 154,592 | 28,569,103
North Dakota | 0 | 827,923 | 4,384 | 827,550 | 4,384 | 831,934
Ohio | 0 | 38,733,523 | 205,086 | 37,181,539 | 205,086 | 37,386,625
Oklahoma | 0 | 7,602,403 | 40,253 | 7,437,134 | 40,253 | 7,477,387
Oregon | 0 | 11,287,889 | 59,767 | 11,019,838 | 59,767 | 11,079,605
Pennsylvania | 0 | 51,213,615 | 271,166 | 48,858,998 | 271,166 | 49,130,164
Puerto Rico | 449,019 | 0 | 0 | 76,202,126 | (449,019) | 75,753,107
Rhode Island | 0 | 3,976,659 | 21,056 | 3,806,076 | 21,056 | 3,827,132
South Carolina | 0 | 14,948,152 | 79,148 | 14,268,943 | 79,148 | 14,348,091
South Dakota | 0 | 1,181,022 | 6,253 | 1,190,973 | 6,253 | 1,197,226
Tennessee | 0 | 18,224,532 | 96,495 | 17,478,205 | 96,495 | 17,574,700
Texas | 0 | 61,217,636 | 324,135 | 59,820,885 | 324,135 | 60,145,020
Utah ** | 0 | 4,331,085 | 22,932 | 4,261,672 | 22,932 | 4,284,604
Vermont | 0 | 868,574 | 4,599 | 843,187 | 4,599 | 847,786
Virginia | 0 | 13,864,434 | 73,409 | 13,694,749 | 73,409 | 13,768,158
Washington | 0 | 26,722,692 | 141,491 | 26,957,248 | 141,491 | 27,098,739
West Virginia | 1,380,493 | 0 | 0 | 12,852,260 | (1,380,493) | 11,471,767
Wisconsin | 0 | 11,469,731 | 60,730 | 11,212,132 | 60,730 | 11,272,862
Wyoming | 0 | 1,090,070 | 5,772 | 1,069,268 | 5,772 | 1,075,040
State Total | 4,993,277 | 943,052,982 | 4,993,277 | 1,051,713,000 | 0 | 1,051,713,000
* Including prior year recapture/reallotment amounts.
** Includes funds allocated to the Navajo Nation.
1 PY 2019 allotment amounts are used to determine the reallotment amount eligible states receive of the recaptured amount.

II. Attachment B

U.S. Department of Labor Employment and Training Administration WIOA Dislocated Worker Activities
PY 2020 Revised Allotments with Reallotment—PY/FY Split
| Total allotment: Original | Total allotment: Recapture/ reallotment | Total allotment: Revised | Available 7/1/20: Original | Available 7/1/20: Recapture/ reallotment | Available 7/1/20: Revised | Available 10/1/20: Original | Available 10/1/20: Recapture/ reallotment | Available 10/1/20: Revised
Alabama | $17,387,399 | $97,223 | $17,484,622 | $3,175,108 |  | $3,175,108 | $14,212,291 | $97,223 | $14,309,514
Alaska | 8,421,655 | 33,955 | 8,455,610 | 1,537,876 |  | 1,537,876 | 6,883,779 | 33,955 | 6,917,734
Arizona * | 39,830,842 | 160,594 | 39,991,436 | 7,273,498 |  | 7,273,498 | 32,557,344 | 160,594 | 32,717,938
Arkansas | 6,061,513 | 33,034 | 6,094,547 | 1,106,891 |  | 1,106,891 | 4,954,622 | 33,034 | 4,987,656
California | 142,073,567 | 784,039 | 142,857,606 | 25,944,012 |  | 25,944,012 | 116,129,555 | 784,039 | 116,913,594
Colorado | 9,986,612 | 53,355 | 10,039,967 | 1,823,652 |  | 1,823,652 | 8,162,960 | 53,355 | 8,216,315
Connecticut | 13,611,948 | 75,237 | 13,687,185 | 2,485,674 |  | 2,485,674 | 11,126,274 | 75,237 | 11,201,511
Delaware | 2,343,949 | 12,761 | 2,356,710 | 428,028 |  | 428,028 | 1,915,921 | 12,761 | 1,928,682
District of Columbia | 11,110,338 | 44,796 | 11,155,134 | 2,028,856 |  | 2,028,856 | 9,081,482 | 44,796 | 9,126,278
Florida | 50,853,493 | 276,900 | 51,130,393 | 9,286,341 |  | 9,286,341 | 41,567,152 | 276,900 | 41,844,052
Georgia | 36,871,224 | 204,500 | 37,075,724 | 6,733,043 |  | 6,733,043 | 30,138,181 | 204,500 | 30,342,681
Hawaii | 1,618,611 | 8,523 | 1,627,134 | 295,574 |  | 295,574 | 1,323,037 | 8,523 | 1,331,560
Idaho | 1,962,590 | 10,394 | 1,972,984 | 358,388 |  | 358,388 | 1,604,202 | 10,394 | 1,614,596
Illinois | 56,663,539 | 315,730 | 56,979,269 | 10,347,312 |  | 10,347,312 | 46,316,227 | 315,730 | 46,631,957
Indiana | 13,347,305 | 72,567 | 13,419,872 | 2,437,347 |  | 2,437,347 | 10,909,958 | 72,567 | 10,982,525
Iowa | 4,077,392 | 21,867 | 4,099,259 | 744,571 |  | 744,571 | 3,332,821 | 21,867 | 3,354,688
Kansas | 4,595,051 | 24,536 | 4,619,587 | 839,101 |  | 839,101 | 3,755,950 | 24,536 | 3,780,486
Kentucky | 16,051,059 | (2,697,332) | 13,353,727 | 2,931,079 |  | 2,931,079 | 13,119,980 | (2,697,332) | 10,422,648
Louisiana | 20,371,329 | 112,663 | 20,483,992 | 3,720,002 |  | 3,720,002 | 16,651,327 | 112,663 | 16,763,990
Maine | 2,562,857 | 13,805 | 2,576,662 | 468,003 |  | 468,003 | 2,094,854 | 13,805 | 2,108,659
Maryland | 15,019,525 | 81,070 | 15,100,595 | 2,742,711 |  | 2,742,711 | 12,276,814 | 81,070 | 12,357,884
Massachusetts | 15,428,753 | 83,755 | 15,512,508 | 2,817,440 |  | 2,817,440 | 12,611,313 | 83,755 | 12,695,068
Michigan | 28,103,101 | 153,445 | 28,256,546 | 5,131,899 |  | 5,131,899 | 22,971,202 | 153,445 | 23,124,647
Minnesota | 8,623,882 | 45,784 | 8,669,666 | 1,574,805 |  | 1,574,805 | 7,049,077 | 45,784 | 7,094,861
Mississippi | 16,877,853 | 68,092 | 16,945,945 | 3,082,060 |  | 3,082,060 | 13,795,793 | 68,092 | 13,863,885
Missouri | 13,271,254 | 72,922 | 13,344,176 | 2,423,460 |  | 2,423,460 | 10,847,794 | 72,922 | 10,920,716
Montana | 1,589,906 | 8,422 | 1,598,328 | 290,332 |  | 290,332 | 1,299,574 | 8,422 | 1,307,996
Nebraska | 2,430,569 | 12,774 | 2,443,343 | 443,845 |  | 443,845 | 1,986,724 | 12,774 | 1,999,498
Nevada | 13,341,178 | (466,433) | 12,874,745 | 2,436,229 |  | 2,436,229 | 10,904,949 | (466,433) | 10,438,516
New Hampshire | 1,776,875 | 9,433 | 1,786,308 | 324,475 |  | 324,475 | 1,452,400 | 9,433 | 1,461,833
New Jersey | 29,962,189 | 165,498 | 30,127,687 | 5,471,387 |  | 5,471,387 | 24,490,802 | 165,498 | 24,656,300
New Mexico * | 18,082,636 | 94,433 | 18,177,069 | 3,302,065 |  | 3,302,065 | 14,780,571 | 94,433 | 14,875,004
New York | 50,005,712 | 269,902 | 50,275,614 | 9,131,528 |  | 9,131,528 | 40,874,184 | 269,902 | 41,144,086
North Carolina | 28,414,511 | 154,592 | 28,569,103 | 5,188,766 |  | 5,188,766 | 23,225,745 | 154,592 | 23,380,337
North Dakota | 827,550 | 4,384 | 831,934 | 151,119 |  | 151,119 | 676,431 | 4,384 | 680,815
Ohio | 37,181,539 | 205,086 | 37,386,625 | 6,789,710 |  | 6,789,710 | 30,391,829 | 205,086 | 30,596,915
Oklahoma | 7,437,134 | 40,253 | 7,477,387 | 1,358,093 |  | 1,358,093 | 6,079,041 | 40,253 | 6,119,294
Oregon | 11,019,838 | 59,767 | 11,079,605 | 2,012,329 |  | 2,012,329 | 9,007,509 | 59,767 | 9,067,276
Pennsylvania | 48,858,998 | 271,166 | 49,130,164 | 8,922,127 |  | 8,922,127 | 39,936,871 | 271,166 | 40,208,037
Puerto Rico | 76,202,126 | (449,019) | 75,753,107 | 13,915,248 |  | 13,915,248 | 62,286,878 | (449,019) | 61,837,859
Rhode Island | 3,806,076 | 21,056 | 3,827,132 | 695,026 |  | 695,026 | 3,111,050 | 21,056 | 3,132,106
South Carolina | 14,268,943 | 79,148 | 14,348,091 | 2,605,647 |  | 2,605,647 | 11,663,296 | 79,148 | 11,742,444
South Dakota | 1,190,973 | 6,253 | 1,197,226 | 217,483 |  | 217,483 | 973,490 | 6,253 | 979,743
Tennessee | 17,478,205 | 96,495 | 17,574,700 | 3,191,690 |  | 3,191,690 | 14,286,515 | 96,495 | 14,383,010
Texas | 59,820,885 | 324,135 | 60,145,020 | 10,923,874 |  | 10,923,874 | 48,897,011 | 324,135 | 49,221,146
Utah * | 4,261,672 | 22,932 | 4,284,604 | 778,223 |  | 778,223 | 3,483,449 | 22,932 | 3,506,381
Vermont | 843,187 | 4,599 | 847,786 | 153,974 |  | 153,974 | 689,213 | 4,599 | 693,812
Virginia | 13,694,749 | 73,409 | 13,768,158 | 2,500,794 |  | 2,500,794 | 11,193,955 | 73,409 | 11,267,364
Washington | 26,957,248 | 141,491 | 27,098,739 | 4,922,655 |  | 4,922,655 | 22,034,593 | 141,491 | 22,176,084
West Virginia | 12,852,260 | (1,380,493) | 11,471,767 | 2,346,947 |  | 2,346,947 | 10,505,313 | (1,380,493) | 9,124,820
Wisconsin | 11,212,132 | 60,730 | 11,272,862 | 2,047,444 |  | 2,047,444 | 9,164,688 | 60,730 | 9,225,418
Wyoming | 1,069,268 | 5,772 | 1,075,040 | 195,259 |  | 195,259 | 874,009 | 5,772 | 879,781
State Total | 1,051,713,000 |  | 1,051,713,000 | 192,053,000 |  | 192,053,000 | 859,660,000 |  | 859,660,000
* Includes funds allocated to the Navajo Nation

Suzan G. LeVine,
Principal Deputy Assistant Secretary for Employment and Training, Labor.

[FR Doc. 2021-06597 Filed 3-30-21; 8:45 am]

BILLING CODE 4510-FR-P